DEPARTMENT OF ENERGY

Federal Energy Regulatory Commission

Combined Notice of Filings #1

Take notice that the Commission received the following Complaints and Compliance filings in EL Dockets:

Docket Numbers: EL22-54-000.

Applicants: Southwest Power Pool, Inc.

Description: Petition for Declaratory Order and Request for Expeditious Action of Southwest Power Pool, Inc.

Filed Date: 4/21/22.

Accession Number: 20220421-5093.

Comment Date: 5 p.m. ET 5/23/22.

Take notice that the Commission received the following electric rate filings:

Docket Numbers: ER10-1520-007; ER10-1521-007; ER10-1522-006; ER20-2493-002.

Applicants: OTCF, LLC, Chemical Corporation, Occidental Power Marketing, L.P., Occidental Power Services, Inc.

Description: Notice of Non-Material Change in Status of Occidental Power Marketing, L.P., et al.

Filed Date: 4/29/22.

Accession Number: 20220429-5707.

Comment Date: 5 p.m. ET 5/20/22.

Docket Numbers: ER10-1595-016; ER10-1598-016; ER10-1616-016; ER10-1618-016; ER10-2783-018; ER10-2798-017; ER10-2799-017; ER10-2878-017; ER10-2878-018; ER10-2879-017; ER10-2960-014; ER10-2969-018; ER18-1821-008; ER18-2418-006; ER19-1738-004; ER19-2231-005; ER19-2232-005; ER21-2423-005; ER21-2424-005; ER22-40-002; ER22-46-004; ER22-1402-001; ER22-1404-001; ER22-1449-001; ER22-1450-001.

Applicants: GB II New Haven LLC, GB II Connecticut LLC, Parkway Generation Operating LLC, Parkway Generation Keys Energy Center LLC, Parkway Generation Essex, LLC, PSEG Power New York Inc., Generation Bridge M&M Holdings, LLC, Generation Bridge Connecticut Holdings, LLC, Chief Keystone Power II, LLC, Chief Conemaugh Power II, LLC, PSEG Fossil Sewaren Urban Renewal LLC, Great River Hydro, LLC, Walleye Power, LLC, Oswego Harbor Power LLC, Astoria Generating Company, L.P., Montville Power LLC, Middleton Power LLC, Devon Power LLC, Connecticut Jet Power LLC, Arthur Kill Power LLC, Rolling Hills Generating, L.L.C., New Covert Generating Company, LLC, Lincoln Generating Facility, LLC, Crete Energy Venture, LLC.

Description: Notice of Change in Status of Crete Energy Venture, LLC, et al.

Filed Date: 4/29/22.

Accession Number: 20220429-5710.

Comment Date: 5 p.m. ET 5/20/22.

Docket Numbers: ER10-1818-030; ER10-1819-033; ER10-1820-036.

Applicants: Northern States Power Company, a Wisconsin corporation, Northern States Power Company, a Minnesota corporation, Public Service Company of Colorado.

Description: Notice of Change in Status of Public Service Company of Colorado, et al.

Filed Date: 4/29/22.

Accession Number: 20220429-5706.

Comment Date: 5 p.m. ET 5/20/22.

Docket Numbers: ER10-1910-025; ER10-1911-025.

Applicants: Duquesne Power, LLC, Duquesne Light Company.

Description: Notice of Change in Status of Duquesne Light Company, et al.

Filed Date: 5/2/22.

Accession Number: 20220502-5384.

Comment Date: 5 p.m. ET 5/23/22.

Docket Numbers: ER17-1794-005.

Applicants: Innovative Solar 42, LLC.

Description: Notice of Change in Status of Innovative Solar 42, LLC.

Filed Date: 5/2/22.

Accession Number: 20220502-5385.

Comment Date: 5 p.m. ET 5/23/22.

Docket Numbers: ER22-1423-001.

Applicants: Appalachian Power Company.

Description: Tariff Amendment: OATT—Kentucky Power Removal—Errata to be effective 12/31/9998.

Filed Date: 5/3/22.

Accession Number: 20220503-5177.

Comment Date: 5 p.m. ET 5/24/22.

Docket Numbers: ER22-1786-000.

Applicants: Public Service Company of Colorado.

Description: § 205(d) Rate Filing: 2022-05-03 PSCoM-NITSA-463-Amnd 2 to be effective 7/2/2022.

Filed Date: 5/3/22.

Accession Number: 20220503-5073.

Comment Date: 5 p.m. ET 5/24/22.

Docket Numbers: ER22-1787-000.

Applicants: Tri-State Generation and Transmission Association, Inc.

Description: § 205(d) Rate Filing: Initial Filing of Rate Schedule FERC No. 342 and Request for Expedited Action to be effective 5/31/2022.

Filed Date: 5/3/22.

Accession Number: 20220503-5087.

Comment Date: 5 p.m. ET 5/24/22.

Docket Numbers: ER22-1788-000.

Applicants: Deseret Generation & Transmission Co-operative, Inc.

Description: Compliance filing: Order No. 676-J First Compliance to be effective 12/31/9998.

Filed Date: 5/3/22.

Accession Number: 20220503-5096.

Comment Date: 5 p.m. ET 5/24/22.

Docket Numbers: ER22-1789-000.

Applicants: PacifiCorp.

Description: § 205(d) Rate Filing: Tri-State NITSA Rev 11 to be effective 5/1/2022.

Filed Date: 5/3/22.

Accession Number: 20220503-5108.

Comment Date: 5 p.m. ET 5/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2022.
Debbie-Anne A. Reese,
Deputy Secretary.

[FR Doc. 2022-09906 Filed 5-6-22; 8:45 am]

BILLING CODE 6717-01-P